DEPARTMENT OF THE INTERIOR

Bureau of Land Management

[LLNM-922000-L51100000-GA0000-LVEMG12CG300; NMNM-126813]

Notice of Availability of the Environmental Assessment and Notice of Public Hearing for the Peabody Natural Resources Company Federal Coal Lease Application, NM

AGENCY: Bureau of Land Management, Interior.

ACTION: Notice.

SUMMARY: In accordance with the Federal coal management regulations, the Peabody Natural Resources Company, Federal Coal Lease-by-Application Environmental Assessment (EA) is available for public review and comment. The Department of the Interior, Bureau of Land Management (BLM) New Mexico State Office, will hold a public hearing to receive comments on the EA, Fair Market Value (FMV), and Maximum Economic Recovery (MER) of the coal resources for Peabody Natural Resources Company, NMNM-126813.

DATES: The public hearing will be held at 3 p.m. on February 8, 2013. Written comments should be received no later than March 11, 2013.

ADDRESSES: The public hearing will be held at the Cibola County Convention Room, 515 West High St., Grants, New Mexico. Written comments should be sent to Gary Torres at the BLM Farmington Field Office, 6251 College Blvd., Suite A, Farmington, NM 87402 or by fax at 505-564-7608. Copies of the Draft EA, the unsigned Finding of No Significant Impact (FONSI) and the MER report are available at the Farmington Field Office address above. The documents are also available electronically at the following Web site: http://www.blm.gov/nm/st/en/fo/Farmington_Field_Office/ffo_nepa/ffo_mineral_eas_open.html.

FOR FURTHER INFORMATION CONTACT: Shannon Hoefeler at 505-564-7732, shoefele@blm.gov, or Gary Torres at 505-564-7612, gtorres@blm.gov. Persons who use a telecommunications device for the deaf (TDD) may call the Federal Information Relay Service (FIRS) at 1-800-877-8339 to contact the above individual during normal business hours. The FIRS is available 24 hours a day, 7 days a week, to leave a message or question with the above individuals. You will receive a reply during normal business hours.

SUPPLEMENTARY INFORMATION: A lease-by-application was filed by Peabody Natural Resources Company. The coal resource to be offered is limited to coal recoverable by surface mining methods. The Federal coal is located in lands outside established coal production regions and may supplement the reserves at the El Segundo Mine. The Federal coal resources are located in McKinley County, New Mexico.

New Mexico Principal Meridian

T. 17 N., R. 9 W.,

Sec. 34, ALL.

These lands contain 640 acres, more or less.

The EA addresses the cultural, socioeconomic, environmental, and cumulative impacts that would likely result from leasing these coal lands. Two alternatives are addressed in the EA:

Alternative 1: (Proposed Action)—The tracts would be leased as requested in the application; and

Alternative 2: (No Action)—The application would be rejected or denied. The Federal coal reserves would be bypassed.

Proprietary data marked as confidential may be submitted to the BLM in response to this solicitation of public comments. Data so marked shall be treated in accordance with the laws and regulations governing the confidentiality of such information. A copy of the comments submitted by the public on the EA, FONSI, FMV, and MER, except those portions identified as proprietary by the author and meeting exemptions stated in the Freedom of Information Act, will be available for public inspection at the BLM Farmington Field Office, 6251 College Blvd., Suite A, Farmington, NM 87402, during regular business hours from 9 a.m. to 4 p.m. Monday through Friday, excluding Federal holidays.

Comments on the EA, FMV, and MER should address, but not necessarily be limited to, the following:

1. The quality and quantity of the coal resources;

2. The method of mining to be employed to obtain MER of the coal, including: Specifications of the seams to be mined; timing and rate of production; restrictions to mining; and the inclusion of the tracts in an existing mining operation;

3. The FMV appraisal including, but not limited to: the evaluation of the tract as an incremental unit of an existing mine; quality and quantity of the coal resource; potential sales value of the severed coal; mining and reclamation costs; net present value discount factors; depreciation and other tax accounting factors; the mining method or methods; and any comparable sales data on similar coal lands. The values given above may or may not change as a result of comments received from the public and changes in market conditions between now and when final economic evaluations are completed.

Written comments on the EA, MER, and FMV should be sent to Gary Torres at the above address or sent via email to gtorres@blm.gov prior to close of business March 11, 2013. Please note “Coal Lease by Application” in the subject line for all emails. Substantive comments, whether written or oral, will receive equal consideration prior to any lease offering.

Before including your address, phone number, email address, or other personal identifying information in your comment, you should be aware that your entire comment—including your personal identifying information—may be made publicly available at any time. While you can ask us in your comment to withhold your personal identifying information from public review, we cannot guarantee that we will be able to do so.

Authority: 43 CFR parts 3422 and 3425.

Jesse J. Juen,
State Director.

[FR Doc. 2013-00180 Filed 1-8-13; 8:45 am]

BILLING CODE 4310-FB-P